FEDERAL COMMUNICATIONS COMMISSION

47 CFR Part 73

[DA 03-3443, MM Docket No. 99-322, RM-9762]

Radio Broadcasting Services; Ashville and Chillicothe, OH

AGENCY: Federal Communications Commission.

ACTION: Final rule; denial of petition for reconsideration.

SUMMARY: This document denies a Petition for Reconsideration Jointly filed by Franklin Communications, Inc., North American Broadcasting Co. and WLCT Radio Incorporated directed to the Report and Order in this proceeding which reallotted Channel 227B from Chillicothe to Ashville, Ohio, and modified the Station WFCB to specify Ashville as the community of license. See 67 FR 67568, November 20, 2002. With this action, the proceeding is terminated.

FOR FURTHER INFORMATION CONTACT: Robert Hayne, Mass Media Bureau (202) 418-2177.

SUPPLEMENTARY INFORMATION: This is a synopsis of the Commission's Memorandum Opinion and Order in MM Docket No. 99-322, adopted October 29, 2003, and released October 31, 2003. The full text of this decision is available for inspection and copying during normal business hours in the FCC Reference Information Center at Portals ll,CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualixint@aol.com.

Federal Communications Commission.
John A. Karousos,
Assistant Chief, Audio Division, Media Bureau.

[FR Doc. 03-28464 Filed 11-13-03; 8:45 am]

BILLING CODE 6712-01-P